FEDERAL ELECTION COMMISSION

[Notice 2022-10]

Filing Dates for the Alaska Special Congressional Election

AGENCY: Federal Election Commission.

ACTION: Notice of filing dates for special election.

SUMMARY: Alaska has scheduled special elections on June 11, 2022, and August 16, 2022, to fill the U.S. House of Representatives seat in the At Large Congressional District held by the late Representative Don Young. Committees required to file reports in connection with the Special Primary Election on June 11, 2022, shall file a 12-day Pre-Primary Report. Committees required to file reports in connection with both the Special Primary and Special General Election on August 16, 2022, shall file a 12-day Pre-Primary, a 12-day Pre-General, and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Alaska Special Primary and Special General Elections shall file a 12-day Pre-Primary Report on May 30, 2022; a 12-day Pre-General Report on August 4, 2022; and a 30-day Post-General Report on September 15, 2022. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Alaska Special Primary or Special General Elections by the close of books for the applicable report(s). (See charts below for the closing date for each report.)

Committees filing monthly that make contributions or expenditures in connection with the Alaska Special Primary or Special General Elections will continue to file according to the monthly reporting schedule.

Additional disclosure information for the Alaska special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $20,200 during the special election reporting periods. (See charts below for closing date of each period.) 11 CFR 104.22(a)(5)(v), (b), 110.17(e)(2), (f).

Calendar of Reporting Dates for Alaska Special Elections
Report | Close of books ¹ | Reg./Cert. & overnight mailing deadline | Filing deadline
Political Committees Involved in Only the Special Primary (06/11/2022) Must File
Pre-Primary | 05/22/2022 | 05/27/2022 | ² 05/30/2022
July Quarterly | 06/30/2022 | 07/15/2022 | 07/15/2022
Political Committees Involved in Both the Special Primary (06/11/2022) and Special General (08/16/2022) Must File
Pre-Primary | 05/22/2022 | 05/27/2022 | ² 05/30/2022
July Quarterly | 06/30/2022 | 07/15/2022 | 07/15/2022
Pre-General | 07/27/2022 | 08/01/2022 | 08/04/2022
Post-General | 09/05/2022 | 09/15/2022 | 09/15/2022
October Quarterly | ² 09/30/2022 | 10/15/2022 | 10/15/2022
Political Committees Involved in Only the Special General (08/16/2022) Must File
Pre-General | 07/27/2022 | 08/01/2022 | 08/04/2022
Post-General | 09/05/2022 | 09/15/2022 | 09/15/2022
October Quarterly | 09/30/2022 | 10/15/2022 | ² 10/15/2022
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail, or electronically, must be received before the Commission's close of business on the last business day before the deadline.

On behalf of the Commission.
Dated: March 29, 2022.
Allen Dickerson,
Chairman, Federal Election Commission.

[FR Doc. 2022-07040 Filed 4-1-22; 8:45 am]

BILLING CODE 6715-01-P